DEPARTMENT OF TRANSPORTATION

Pipeline and Hazardous Materials Safety Administration, Office of Hazardous Materials Safety

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: I—Motor vehicle, 2—Rail freight, 3—Cargo vessel, 4—Cargo aircraft only, 5—Passenger-carrying aircraft.

DATES: Comments must be received on or before May 7, 2008.

Address Comments to: Record Center, Pipeline and Hazardous Materials Safety, Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for special permit is published in accordance with Part 107 of the Federal hazardous materials transportation law (49 U.S.C. 5117(b); 49 CFR 1.53(b)).

Issued in Washington, DC, on March 31, 2008.
Delmer F. Billings,
Director, Office of Hazardous Materials, Special Permits and Approvals.

New Special Permits
Application No. | Docket No. | Applicant | Regulation(s) affected | Nature of special permits thereof
14649-N | PHMSA-08-0037 | Olin Corporation, Winchester Division, East Alton, IL | 49 CFR 173.62(b), 172.101 column (8C), 173.60(b)(8), 172.300 and 172.400 | To authorize the transportation in commerce of certain Division 1.4 ammunition in bulk packaging by motor vehicle for the purpose of relocating a military packing operation. (mode 1)
14650-N | PHMSA-08-0036 | Air Transport International, L.L.C. Little Rock, AR | 49 CFR 172.101 171.11; 172.204 (c)(3); 173.27; 175.30(a)(1) | To authorize the transportation in commerce of certain Division 1.1, 1.2, 1.3 and 1.4 explosives which are forbidden or exceed quantities presently authorized. (mode 4).
14651-N | PHMSA-08-0039 | Air Products and Chemicals, Inc. Allentown, PA | 49 CFR 173.40 | To authorize the transportation in commerce of certain manifolded DOT specification 3A and 3AA cylinders containing materials toxic by inhalation in Hazard Zone B. (mode 1).
14652-N | PHMSA-08-0043 | Magnum Mud Equipment Co., Inc. Houma, LA | 49 CFR 171.14(d)(4) | To authorize the transportation in commerce of certain Class 3 (flammable liquid) hazardous materials in IM101 portable tanks beyond the January 1, 2010 date currently authorized. (mode 1).
14656-N |  | PurePak Technology Corporation, Chandler, AZ | 49 CFR 173.158(f)(3) | To authorize the transportation in commerce of nitric acid up to 70% concentration in an alternative packaging configuration. (modes 1, 2, 3).
14657-N | PHMSA-08-0058 | University of Missouri Research Reactor, Columbia, MO | 49 CFR 173.416(c) | To authorize the transportation in commerce of certain radioactive materials in DOT 6M containers beyond October 1, 2008. (mode 1)
14658-N | PHMSA-08-0057 | Union Carbide Corporation, Midland, MI | 49 CFR 172.200, 172.300, 172.400, 172.500 | To authorize the transportation of combustible liquid in certain DOT 51 and UN31 A containers with a capacity of 120 gallons not subject to the requirements for shipping papers, marking, labeling and placarding. (modes 1, 2, 3).
14659-N | PHMSA-08-0056 | ESM Group Inc., Amherst, NY | 49 CFR 173.242(b) and (c) | To authorize the transportation in commerce of calcium carbide (UN 1402), Division 4.1, PG I in non-DOT specification bulk containers by motor vehicle. (modes 1, 2).
14660-N | PHMSA-08-0055 | Determan Brownie, Inc., Minneapolis, MN | 49 CFR 172.200; 173.242(b); 173.243(b) | To authorize the transportation in commerce of residual amounts of Class 3 hazardous materials in non-DOT specification packaging (meter provers). (mode 1).
14661-N |  | FIBA Technologies, Inc., Millbury, MA | 49 CFR 180.209(a); 180.209(b) | To authorize the ultrasonic testing of DOT-3A, DOT-3AA 3AX, 3AAX and 3T specification cylinders for use in transporting Division 2.1, 2.2 or 2.3 material. (modes 1, 2, 3).
14663-N | PHMSA-08-0054 | Department of Energy, Washington, DC | 49 CFR 173.416( c) | To authorize the transportation in commerce of certain radioactive materials in DOT 6M containers beyond October 1, 2008. (mode 1).
14664-N | PHMSA-08-0063 | Century Arms, Inc., Fairfax, VT | 49 CFR | To authorize the transportation in commerce of certain Division 1.4 explosives as Consumer commodity, ORM-D. (modes 1, 2, 4, 5).
14668-N | PHMSA-08-0064 | Lincoln Composites, Lincoln, NE | 49 CFR 173.302a | To authorize the manufacture, marking, sale and use of non-DOT specification fully wrapped fiber reinforced composite gas cylinders with a non-load sharing plastic liner that meets the ISO 11119-3 standard except for the design water capacity and service pressure. (modes 1, 2, 3, 4, 5).

[FR Doc. E8-7136 Filed 4-4-08; 8:45 am]

BILLING CODE 4909-60-M